NATIONAL AERONAUTICS AND SPACE ADMINISTRATION

[Notice (05-071)]

NASA Advisory Council, Minority Business Resource Advisory Committee; Meeting

AGENCY: National Aeronautics and Space Administration (NASA).

ACTION: Notice of meeting.

SUMMARY: In accordance with the Federal Advisory Committee Act, Public Law 92-463, as amended, the National Aeronautics and Space Administration announce a forthcoming meeting of the NASA Advisory Council (NAC), Minority Business Resource Advisory Committee.

DATES: Thursday, April 28, 2005, 9 a.m. to 4 p.m., and Friday, April 29, 9 a.m. to 12 Noon.

ADDRESSES: Marshall Space Flight Center, Huntsville, Alabama 35812.

FOR FURTHER INFORMATION CONTACT: Mr. Ralph C. Thomas III, Office of Small and Disadvantaged Business Utilization, National Aeronautics and Space Administration, (202) 358-2088.

SUPPLEMENTARY INFORMATION: The meeting will be open to the public up to the seating capacity of the room. The agenda for the meeting is as follows:

—Review of Previous Meeting

—Overview of Small Business Program

—Public Comment

—Panel Discussion and Review

—Office of Small and Disadvantage Business Utilization National Program Update

—New Business

Attendees will be requested to sign a register and to comply with NASA security requirements. You MUST have (1) Picture ID (driver's license) and (2) proof of insurance or (rental car agreement) to receive a pass. Foreign nationals attending this meeting will be required to provide the following information: full name; gender; date/place of birth; citizenship; employee/affiliation information (name of institution, address, country, phone); title/position of attendee. To expedite admittance, attendees can provide identifying information in advance by contacting Ms. Fran Thompson via e-mail at Fran.Thompson@nasa.gov or by telephone at 256-544-8816. It is imperative that the meeting be held on this date to accommodate the scheduling priorities of the key participants. Visitors will be requested to sign a visitor's register.

P. Diane Rausch,
Advisory Committee Management Officer, National Aeronautics and Space Administration.

[FR Doc. 05-7323 Filed 4-11-05; 8:45 am]

BILLING CODE 7510-13-P